DEPARTMENT OF AGRICULTURE

Animal and Plant Health Inspection Service

9 CFR Part 93

[Docket No. APHIS-2007-0141]

Importation of Horses, Ruminants, Swine, and Dogs; Remove Panama From Lists of Regions Where Screwworm Is Considered To Exist

AGENCY: Animal and Plant Health Inspection Service, USDA.

ACTION: Final rule.

SUMMARY: We are amending the regulations regarding the importation of live horses, ruminants, swine, and dogs by removing Panama from the lists of regions where screwworm is considered to exist. We are taking this action because the eradication of screwworm from Panama has been confirmed. This action will relieve certain screwworm-related certification and inspection requirements for live animals imported into the United States from Panama.

DATES: Effective Date: September 29, 2008.

FOR FURTHER INFORMATION CONTACT: Dr. Julia Punderson, Regionalization Evaluation Services—Import, Sanitary Trade Issues Team, National Center for Import and Export, VS, APHIS, 4700 River Road Unit 38, Riverdale, MD 20737-1231; (301) 734-0757.

SUPPLEMENTARY INFORMATION:

Background

The regulations in 9 CFR part 93 (referred to below as the regulations), prohibit or restrict the importation of certain animals into the United States to prevent the introduction of pests and diseases of livestock and poultry, including New World screwworm (Cochliomyia hominivorax).

Screwworm, a pest native to tropical areas and currently found in South America and the Caribbean, causes extensive damage to livestock and other warm-blooded animals. Subparts C, D, E, and F of the regulations govern the importation of horses, ruminants, swine, and dogs, respectively, and include provisions for the inspection and treatment of these animals if imported from any region of the world where screwworm is considered to exist. Sections 93.301, 93.405, 93.505, and 93.600 list all the regions of the world where screwworm is considered to exist.

On May 16, 2008, we published in the Federal Register (73 FR 28382-28385, Docket No. APHIS-2007-0141) a proposal ¹ to amend the regulations regarding live horses, ruminants, swine, and dogs by removing Panama from the lists of regions where screwworm is considered to exist in §§ 93.301, 93.405, 93.505, and 93.600.

¹ To view the proposed rule and the comment we received, go to http://www.regulations.gov/fdmspublic/component/main?main=DocketDetail&d=APHIS-2007-0141.

We solicited comments concerning our proposal for 60 days ending July 15, 2008. We received one comment by that date, from a private citizen. The comment did not address the removal of Panama from the list of regions where screwworm is considered to exist.

Therefore, for the reasons given in the proposed rule, we are adopting the proposed rule as a final rule, without change.

Executive Order 12866 and Regulatory Flexibility Act

This rule has been reviewed under Executive Order 12866. For this action, the Office of Management and Budget has waived its review under Executive Order 12866.

This final rule amends the regulations regarding the importation of live horses, ruminants, swine, and dogs by removing Panama from the lists of regions where screwworm is considered to exist. We are taking this action because the eradication of screwworm from Panama has been confirmed. This action will relieve certain screwworm-related certification and inspection requirements for live animals imported into the United States from Panama.

No significant change in program operations is anticipated as a result of this rule, nor will this action affect other Federal agencies, State governments, or local governments. The cost of all technical support activities, including establishment of animal quarantine control measures, treatment stations, maintenance of livestock census, screwworm surveillance, establishment and maintenance of laboratory support, and aerial dispersion of sterile screwworm flies in Panama is provided by the Commission for the Eradication and Prevention of Screwworm and the cooperative agreement funded by the U.S. Department of Agriculture and Panama's Ministry of Agriculture and Livestock Development. When importing live animals from a region where screwworm is considered to exist, the cost of any required testing (and treatment, if needed) is paid by the owner of the animals being shipped. Our removal of Panama from the list of regions where screwworm is considered to exist will reduce the cost for producers and others in Panama to export ruminants, swine, horses, and dogs to the United States.

The economic effects associated with this rule are likely to be limited. This is because the number of live animals exported into the United States from Panama is likely to remain small. Trade statistics indicate that since 2001, the United States has not imported any ruminants, swine, or dogs from Panama. Equine imports from Panama over this period have numbered only 163, which is approximately 0.06 percent of all horse imports.²

² Based on U.S. Census Bureau data, as presented by Foreign Agricultural Service, USDA: http//www.fas.usda.gov/ustrade/USTImHS10.asp?QI=onhline_trade_dataTRAD.

According to Small Business Administration size standards for beef cattle ranching and farming (North American Industry Classification System (NAICS) 112111), dairy cattle and milk production (NAICS 112120), hog and pig farming (NAICS 112210), sheep farming (NAICS 112410), goat farming (NAICS 112420),³ and horse and other equine production (NAICS 112920), as well as the commercial production of dogs, which is classified under “all other animal production” (NAICS 112990), operations with not more than $750,000 in annual sales are considered small entities. We do not expect that these producers, small or otherwise, will be affected significantly by the change in Panama's screwworm status. This is because, for the reasons discussed above, live ruminants, swine, horses, and dogs from Panama do not play much, if any, of a role in their operations, and few susceptible live animals are expected to be exported.

³ The “all other animal production” classification also includes the production of other animals, such as adornment birds (swans, peacocks, flamingos), alpacas, birds for sale, buffalos, cats, crickets, deer, elk, laboratory animals, llamas, rattlesnakes, worms, and breeding of pets.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no new information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

§ 93.301 [Amended]

2. In § 93.301, paragraph (j) is amended by removing the word “Panama,”.

§ 93.405 [Amended]

3. In § 93.405, paragraph (a)(3) is amended by removing the word “Panama,”.

§ 93.505 [Amended]

4. In § 93.505, paragraph (b) is amended by removing the word “Panama,”.

§ 93.600 [Amended]

5. In § 93.600, paragraph (a) is amended by removing the word “Panama,”.

Done in Washington, DC, this 25th day of August 2008.
Kevin Shea,
Acting Administrator, Animal and Plant Health Inspection Service.

[FR Doc. E8-20116 Filed 8-28-08; 8:45 am]

BILLING CODE 3410-34-P